DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the Customs Regulations (19 CFR 111.51), the following Customs broker licenses and all associated permits are cancelled without prejudice.

Name | License No. | Issuing port
Aston International Inc | 9054 | New York.
Bonn International Inc | 21037 | Los Angeles.
Elite Customs Brokers Inc | 4039 | New York.
Michael De Luca | 3398 | New York.
Robert W. Cisco, Customs Brokers Inc | 22587 | New Orleans.

Dated: December 24, 2009.
Daniel Baldwin,
Assistant Commissioner, Office of International Trade.

[FR Doc. E9-31077 Filed 12-30-09; 8:45 am]

BILLING CODE 9111-14-P